DELAWARE RIVER BASIN COMMISSION

Notice of Commission Meeting and Public Hearing

Notice is hereby given that the Delaware River Basin Commission will hold an informal conference followed by a public hearing on Wednesday, January 21, 2004. The hearing will be part of the Commission's regular business meeting. Both the conference session and business meeting are open to the public and will be held at the Commission's offices at 25 State Police Drive, West Trenton, New Jersey.

The conference among the commissioners and staff will begin at 9:30 a.m. Topics of discussion will include: An update on development of the Water Resources Plan for the Delaware River Basin; an update on activities of the TMDL Implementation Advisory Committee (IAC); a report on PCB minimization planning efforts; a report on the effect of the Endangered Species Act and the presence of the dwarf wedge mussel on the fisheries enhancement program for the New York City Delaware Basin Reservoirs; a presentation on the proposed fisheries enhancement program for the New York City Delaware Basin Reservoirs; a discussion on DRBC's Fiscal Year 2005 proposed budget and decrement plan; and a discussion on a proposed Army Corps of Engineers Feasibility Cost Share Agreement.

The subjects of the public hearing to be held during the 1:30 p.m. business meeting include the dockets listed below:

1. Nestle Waters North America, Inc. D-98-27 RENEWAL. A spring water renewal project to continue to supply up to 9.0 million gallons (mg)/30 days of water to the applicant's bottled water operations from Hoffman Springs Nos. 1, 2, and 3 in the Ontelaunee Creek Watershed. The project is located in Lynn Township, Lehigh County, Pennsylvania.

2. New Lisbon Development Center D-2003-08 CP. An application for approval of a ground water withdrawal project to supply up to 8.0 mg/30 days of water to the applicant's institutional facility from new Wells Nos. 1, 2, 3, and 4 in the Cohansey Formation. The project wells are located in the South Branch Rancocas Creek Watershed in Woodland Township, Burlington County, New Jersey.

3. Limerick Township Municipal Authority D-2003-16 CP. An application to expand an existing 1.0 million gallons per day (mgd) secondary sewage treatment plant (STP) to process 1.7 mgd via an extended aeration treatment operation. The STP is located off King Road in Limerick Township, Montgomery County, Pennsylvania. It will continue to serve only Limerick Township, and effluent will continue to be discharged to an unnamed tributary of the Schuylkill River, approximately 43 river miles upstream from its confluence with the Delaware River.

4. Ockels Farms, Inc. D-2003-18. An application for approval of a ground water withdrawal project to supply up to 135 mg/30 days of water from Wells Nos. 1 through 5 screened in the Manokin and Columbia Formations, for supplemental irrigation of the applicant's 650 acre farm. The applicant has 14 wells in total, nine of which (Wells Nos. 6 through 14) are located outside of the Delaware River Basin. The project is located in the Cedar Creek and Broadkill River Watersheds in Sussex County, Delaware.

5. Artesian Water Company, Inc. D-2003-22 CP. An application for approval of a ground water withdrawal project to supply the applicant's public water supply distribution system from new Well No. 3 in the Willow Grove Wellfield, replacement Well No. 2R in the Townsend Wellfield, and replacement Well No. 2R in the Bayview Wellfield; and to retain the combined withdrawal of 150 mg/30 days from all wells in the Southern Distribution system. Willow Grove Well No. 3 and Townsend Well No. 2R are located in the Appoquinimink River Watershed, and Bayview Well No. 2R is located in the C&D Canal East Watershed in New Castle County, Delaware.

6. Schwenksville Borough Authority D-2003-29 CP. An application for approval of a ground water withdrawal project to supply up to 3 mg/30 days of water to the applicant's public water supply distribution system from new Well No. 9, and to increase the combined withdrawal from all wells to 14.8 mg/30 days. The project is located in the Swamp Creek Watershed in the Borough of Schwenksville and Lower Frederick Township, Montgomery County, Pennsylvania in the Southeastern Pennsylvania Ground Water Protected Area.

7. Anthony E. Argiros/Family School D-2003-35. An application to reroute to a proposed on-site subsurface discharge system a 19,500 gallon per day (gpd) STP discharge that currently flows to Abe Lord Creek, a tributary of the Delaware River in the Special Protection Waters Area. The existing plant will continue to provide advanced secondary treatment. The proposed subsurface discharge system is designed to further improve effluent quality. The modified project will continue to serve the Family School in the Town of Hancock, Delaware County, New York.

The Commission's 1:30 p.m. business meeting also will include a hearing on the DRBC's Fiscal Year 2005 proposed budget. In addition, the meeting will include: Adoption of the Minutes of the December 3, 2003 business meeting; announcements; a report on Basin hydrologic conditions; a report by the executive director; and a report by the Commission's general counsel.

Draft dockets scheduled for public hearing on January 21, 2004 are posted on the Commission's Web site, http://www.drbc.net, where they can be accessed through the Notice of Commission Meeting and Public Hearing. Additional documents relating to the dockets and other items may be examined at the Commission's offices. Please contact Robert Tudor at 609-883-9500 ext. 208 with any docket-related questions.

Persons wishing to testify at this hearing are requested to register in advance with the Commission secretary at 609-883-9500 ext. 203. Individuals in need of an accommodation as provided for in the Americans with Disabilities Act who wish to attend the hearing should contact the Commission secretary directly at 609-883-9500 ext. 203 or through the Telecommunications Relay Services (TRS) at 711, to discuss how the Commission may accommodate your needs.

Dated: January 6, 2004.
Pamela M. Bush,
Commission Secretary.

[FR Doc. 04-531 Filed 1-9-04; 8:45 am]

BILLING CODE 6360-01-P